DEPARTMENT OF AGRICULTURE

Animal and Plant Health Inspection Service

[Docket No. APHIS-2009-0071]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of the international standard-setting activities of the World Organization for Animal Health, the Secretariat of the International Plant Protection Convention, and the North American Plant Protection Organization, and we are soliciting public comment on the standards to be considered.

ADDRESSES: You may submit comments by either of the following methods:

• Federal eRulemaking Portal: Go to (http://www.regulations.gov/fdmspublic/component/main?main=DocketDetail&d=APHIS-2009-0071) to submit or view comments and to view supporting and related materials available electronically.

• Postal Mail/Commercial Delivery: Please send two copies of your comment to Docket No. APHIS-2009-0071, Regulatory Analysis and Development, PPD, APHIS, Station 3A-03.8, 4700 River Road Unit 118, Riverdale, MD 20737-1238. Please state that your comment refers to Docket No. APHIS-2009-0071.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For general information on the topics covered in this notice, contact Mr. John Greifer, Associate Deputy Administrator for SPS Management, International Services, APHIS, room 1132, South Building, 14th Street and Independence Avenue SW., Washington, DC 20250; (202) 720-7677.

For specific information regarding standard-setting activities of the World Organization for Animal Health, contact Dr. Michael David, Director, Sanitary International Standards Team, National Center for Import and Export, VS, APHIS, 4700 River Road Unit 33, Riverdale, MD 20737-1231; (301) 734-5324.

For specific information regarding the standard-setting activities of the International Plant Protection Convention or the North American Plant Protection Organization, contact Ms. Julie E. Aliaga, Program Director, International Phytosanitary Standards, PPQ, APHIS, 4700 River Road Unit 140, Riverdale, MD 20737-1236; (301) 734-0763.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law by the President on December 8, 1994. The WTO Agreements, which established the WTO, entered into force with respect to the United States on January 1, 1995. The Uruguay Round Agreements Act amended Title IV of the Trade Agreements Act of 1979 (19 U.S.C. 2531 et seq.). Section 491 of the Trade Agreements Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

“International standard” is defined in 19 U.S.C. 2578b as any standard, guideline, or recommendation: (1) Adopted by the Codex Alimentarius Commission (Codex) regarding food safety; (2) developed under the auspices of the World Organization for Animal Health (OIE, formerly known as the Office International des Epizooties) regarding animal health and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. The United States Department of Agriculture’s (USDA’s) Food Safety and Inspection Service (FSIS) informs the public of Codex standard-setting activities, and USDA’s Animal and Plant Health Inspection Service (APHIS) informs the public of OIE, IPPC, and NAPPO standard-setting activities.

FSIS publishes an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing an annual notice of OIE, IPPC, and NAPPO activities related to international standards for plant and animal health and representing the United States with respect to these standards. Following are descriptions of the OIE, IPPC, and NAPPO organizations and the standard-setting agenda for each of these organizations. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924 with the signing of an international agreement by 28 countries. It is currently composed of 174 member nations, each of which is represented by a delegate who, in most cases, is the chief veterinary officer of that country. The WTO has recognized the OIE as the international forum for setting animal health standards, reporting global animal disease events, and presenting guidelines and recommendations on sanitary measures relating to animal health.

The OIE facilitates intergovernmental cooperation to prevent the spread of contagious diseases in animals by sharing scientific research among its members. The major functions of the OIE are to collect and disseminate information on the distribution and occurrence of animal diseases and to ensure that science-based standards govern international trade in animals and animal products. The OIE aims to achieve these through the development and revision of international standards for diagnostic tests, vaccines, and the safe international trade of animals and animal products.

The OIE provides annual reports on the global distribution of animal diseases, recognizes the free status of Member countries for certain diseases, categorizes animal diseases with respect to their international significance, publishes bulletins on global disease status, and provides animal disease control guidelines to Member countries. Various OIE commissions and working groups undertake the development and preparation of draft standards, which are then circulated to Member countries for consultation (review and comment). Draft standards are revised accordingly and are then presented to the OIE International Committee (all the Member countries) during the General Session, which meets annually every May, for review and adoption. Adoption, as a general rule, is based on consensus of the OIE membership.

The next OIE General Session is scheduled for May 23-28, 2010, in Paris, France. Currently, the Deputy Administrator for APHIS’ Veterinary Services program is the official U.S. Delegate to the OIE. The Deputy Administrator for APHIS’ Veterinary Services program intends to participate in the proceedings and will discuss or comment on APHIS’ position on any standard up for adoption. Information about OIE draft Terrestrial and Aquatic Animal Health Code chapters may be found on the Internet at (http://www.aphis.usda.gov/import_export/animals/oie/) or by contacting Dr. Michael David (see FOR FURTHER INFORMATION CONTACT above).

OIE Terrestrial Animal Health Code Chapters and Appendices Adopted by the May 2009 General Session

Over 50 Code chapters were amended and/or rewritten, or newly proposed and presented for adoption at the General Session. The following Code chapters¹ are of particular interest to the United States:

¹NOTE: Proposed appendices and chapters not yet assigned by number have been designated an “x” as a temporary placeholder by the OIE.

1. Glossary

Several Code chapter definitions were modified, rewritten, or deleted. Modified or rewritten definitions include the definitions for “protection zone,” “early detection system,” “outbreak,” “risk,” “risk communication,” “vaccination,” and “veterinary professional.”

2. Chapter 3.x.x, Vector surveillance

This is a new chapter that is focused on the surveillance of disease agents transmitted by vectors.

3. Chapter 4.3, Zoning and compartmentalization, and Chapter 4.4, Application of compartmentalization

The text in these chapters was modified for clarity in content. No substantive changes were made to these chapters.

4. Chapter 8.5, Foot and mouth disease

The term “buffer” was removed and replaced with the term “protection.” The text was further clarified that an outbreak of FMD within a “protection zone” would not affect the free status of a free zone or country as long as the outbreak is shown to be contained to that protection zone.

5. Chapter 10.4, Avian influenza

Minor changes were made to this chapter, and it was modified for clarity.

6. Chapter 10.13, Newcastle disease

The text in this chapter was modified for clarity.

7. Chapter 11.6, Bovine spongiform encephalopathy

The text in this chapter was modified to remove the 30-month age limit restriction so that deboned skeletal muscle can be freely traded from all countries, regardless of BSE risk, and to allow countries to source bone vertebrae for gelatin production from cattle 30 months of age and younger from countries of either undetermined or controlled risk.

8. Chapter 11.7, Bovine tuberculosis

A new chapter on bovine tuberculosis was adopted. It retains the definition of a “herd,” which provides a country another means to manage the disease in addition to the implementation of compartmentalization.

9. Chapter 11.8, Bovine tuberculosis in farmed Cervidae

This is a new chapter that incorporates many of the recommendations found in the bovine tuberculosis chapter.

10. Chapter 14.9, Scrapie

A new chapter was adopted and a few articles that address surveillance were left as “under study.”

11. Chapter 15.3, Classical swine fever

A new chapter was adopted.

OIE Terrestrial Animal Health Code Chapters and Appendices for Future Review

Existing Terrestrial Animal Health Code chapters that may be further revised and new chapters that may be drafted in preparation for the next General Session in 2010 include the following:

1. Chapter 2.3.1, Bovine brucellosis

2. Chapter 7.x.x, The use of animals in research, testing, teaching

3. Chapter 8.1, Anthrax

4. Chapter 8.5, Foot and mouth disease

Changes may include the concept of compartmentalization.

5. Chapter 15.5, Swine vesicular disease

6. Chapter x.x.x, Communication

OIE Aquatic Animal Health Code Chapters and Appendices up for Adoption

Aquatic Animal Health Code chapters and appendices that have been revised or that are new for adoption at the 2010 General Session include:

1. Chapter 1.3.1, General obligations and Chapter 1.3.2, Certification procedures

Certification procedures will be submitted for comment later in 2009.

2. Chapter x.x.x, Handling and disposal of carcasses and wastes of aquatic animals

This newly proposed chapter is under further review by the OIE.

3. Chapter x.x.x, Infection with abalone herpes-like virus

This new chapter may be proposed for adoption in 2010.

OIE Aquatic Animal Commission Future Work Program

During the next few years, the OIE Aquatic Animal Commission may address the following issues or establish ad hoc groups of experts to update or develop standards for the following issues:

1. International transport of aquatic animal disease agents and pathological materials.

2. Guidelines for aquatic animal surveillance.

The Process

The OIE Code chapters are drafted (or revised) by either the Terrestrial or Aquatic Animal Health Standards Commission or by ad hoc groups composed of technical experts nominated by the Director General of the OIE by virtue of their subject-area expertise. Once a new chapter is drafted or an existing one is revised, the chapter is distributed to Member countries for review and comment. The OIE attempts to provide proposed chapters by late October to allow Member countries sufficient time for comment. Comments are due by late January of the following year. The draft standard is revised by the OIE Code Commission on the basis of relevant scientific comments received from Member countries.

The United States (i.e., USDA/APHIS) intends to review, and where appropriate, comment on all draft chapters and revisions once it receives them from the OIE. USDA/APHIS intends to distribute these drafts to the U.S. livestock and aquaculture industries, veterinary experts in various U.S. academic institutions, other State and Federal agencies, and other interested persons for review and comment. Additional information regarding these draft standards may be obtained by contacting Dr. Michael David (see FOR FURTHER INFORMATION CONTACT above).

Generally, if a country has concerns with a particular draft standard, and supports those concerns with sound technical information, the pertinent OIE Code Commission will revise that standard accordingly and present the revised draft for adoption at the General Session in May. In the event that a country’s concerns regarding a draft standard are not taken into account, that country may refuse to support the standard when it comes up for adoption at the General Session. However, each Member country is obligated to review and comment on proposed standards, and make decisions regarding the adoption of those standards, strictly on their scientific merits.

Other OIE Topics

Every year at the General Session, at least one technical item is presented. For the May 2010 General Session, the following technical item will be presented:

1. The critical contribution of veterinary activities to the global security of food derived from terrestrial and aquatic animals.

The information in this notice includes all the information available to us on OIE standards currently under development or consideration. Information on OIE standards is available on the Internet at (http://www.oie.int). Further, a formal agenda for the next General Session should be available to Member countries by March 2010, and copies will be available to the public once the agenda is published. For the most current information on meeting times, working groups, and/or meeting agendas, including information on official U.S. participation in OIE activities and U.S. positions on standards being considered, contact Dr. Michael David (see FOR FURTHER INFORMATION CONTACT above). Those wishing to provide comments on any areas of work under the OIE may do so at any time by responding to this notice (see ADDRESSES above) or by providing comments through Dr. Michael David.

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards, the harmonization of phytosanitary activities through emerging standards, the facilitation of the exchange of official and scientific information among countries, and the furnishing of technical assistance to developing countries that are signatories to the IPPC.

The IPPC is under the authority of the Food and Agriculture Organization (FAO), and the members of the Secretariat of the IPPC are appointed by the FAO. The IPPC is implemented by national plant protection organizations (NPPOs) in cooperation with regional plant protection organizations (RPPOs); the Commission on Phytosanitary Measures (formerly referred to as the International Commission on Phytosanitary Measures); and the Secretariat of the IPPC. The United States plays a major role in all standard-setting activities under the IPPC and has representation on FAO’s highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC entered into force after two-thirds of the contracting parties notified the Director General of FAO of their acceptance of the amendment in October 2005. The U.S. Senate gave its advice and consent to acceptance of the newly revised IPPC on October 18, 2000. The President submitted the official letter of acceptance to the FAO Director General on October 4, 2001.

The IPPC has been, and continues to be, administered at the national level by plant quarantine officials whose primary objective is to safeguard plant resources from injurious pests. In the United States, the national plant protection organization is APHIS’ Plant Protection and Quarantine (PPQ) program. The steps for developing a standard under the IPPC are described below.

Step 1: Proposals for a new international standard for phytosanitary measures (ISPM) or for the review or revision of an existing ISPM are submitted to the Secretariat of the IPPC in a standardized format on a 2-year cycle. Alternatively, the Secretariat can propose a new standard or amendments to existing standards.

Step 2: After review by the Standards Committee and the Strategic Planning and Technical Assistance Working Group, a summary of proposals is submitted by the Secretariat to the CPM. The CPM identifies the topics and priorities for standard setting from among the proposals submitted to the Secretariat and others that may be raised by the CPM.

Step 3: Specifications for the standards identified as priorities by the CPM are drafted by the Standards Committee. The draft specifications are subsequently made available to members and RPPOs for comment (60 days). Comments are submitted in writing to the Secretariat. Taking into account the comments, the Standards Committee finalizes the specifications.

Step 4: The standard is drafted or revised in accordance with the specifications by a working group designated by the Standards Committee. The resulting draft standard is submitted to the Standards Committee for review.

Step 5: Draft standards approved by the Standards Committee are distributed to members by the Secretariat and RPPOs for consultation (100 days). Comments are submitted in writing to the Secretariat. Where appropriate, the Standards Committee may establish open-ended discussion groups as forums for further comment. The Secretariat summarizes the comments and submits them to the Standards Committee.

Step 6: Taking into account the comments, the Secretariat, in cooperation with the Standards Committee, revises the draft standard. The Standards Committee submits the final version to the CPM for adoption.

Step 7: The ISPM is established through formal adoption by the CPM according to Rule X of the Rules of Procedure of the CPM.

Step 8: Review of the ISPM is completed by the specified date or such other date as may be agreed upon by the CPM.

Each member country is represented on the CPM by a single delegate. Although experts and advisors may accompany the delegate to meetings of the CPM, only the delegate (or an authorized alternate) may represent each member country in considering a standard up for approval. Parties involved in a vote by the CPM are to make every effort to reach agreement on all matters by consensus. Only after all efforts to reach a consensus have been exhausted may a decision on a standard be passed by a vote of two-thirds of delegates present and voting.

Technical experts from the United States have participated directly in working groups and indirectly as reviewers of all IPPC draft standards. The United States also has a representative on the Standards Committee. In addition, documents and positions developed by APHIS and NAPPO have been sources of significant input for many of the standards adopted to date. This notice describes each of the IPPC standards currently under consideration or up for adoption. The full text of each standard will be available on the Internet at (http://www.aphis.usda.gov/import_export/plants/plant_exports/phyto_international_standards.shtml). Interested individuals may review the standards posted on this Web site and submit comments via the Web site.

The next CPM meeting is scheduled for March 22-26, 2010, at FAO Headquarters in Rome, Italy. The Deputy Administrator for APHIS’ PPQ program is the U.S. delegate to the CPM. The Deputy Administrator intends to participate in the proceedings and will discuss or comment on APHIS’ position on any standards up for adoption. The agenda for the Fifth Session of the Commission of Phytosanitary Measures is as follows:

1. Opening of the session

2. Adoption of the agenda

3. Election of the Rapporteur

4. Report by the CPM chairperson

5. Report by the Secretariat

6. Report of the technical consultation among RPPOs

7. Report of observer organizations

8. Goal 1: A robust international standard-setting and implementation program

8.1 Report by the chairperson of the Standards Committee

8.2 Adoption of international standards—under the regular process

8.3 Adoption of international standards—under the special-track process

8.4 IPPC standard-setting work program (with proposed adjustments)

9. Goal 2: Information exchange systems appropriate to meet IPPC obligations

9.1 Proposed work program for 2010

10. Goal 3: Effective dispute settlement systems

10.1 Report of the chairperson of the Subsidiary Body on Dispute Settlement

11. Goal 4: Improved phytosanitary capacity of members

12. Goal 5: Sustainable implementation of the IPPC

12.1 Report of the fourth meeting of the Strategic Planning and Technical Assistance group

12.2 IPPC/CPM activities

12.2.1 State of membership to the IPPC

12.2.2 Acceptance of documents in electronic format

12.3 Update to the Business Plan 2008-2011

12.4 Financial report and budget

12.4.1 Financial report 2009

12.4.2 Financial report 2009 for the Trust Fund for the IPPC

12.4.3 CPM Operational Plan for 2010

12.4.4 Budget 2010 for the Trust Fund for the IPPC

12.5 Proposal for the adoption of CPM recommendations

13. Goal 6: International promotion of the IPPC and cooperation with relevant regional and international organizations

13.1 Report on the international promotion of the IPPC and cooperation with relevant regional and international organizations

14. Goal 7: Review of the status of plant protection in the world

15. Election of the Bureau

16. Membership of CPM subsidiary bodies

17. Calendar

18. Other business

19. Date and venue of the next meeting

20. Adoption of the report

IPPC Standards Adopted at the CPM-4 Session in 2009

1. Amendments to ISPM No. 5 (Glossary of Phytosanitary Terms)

A. The following new terms and definitions have been adopted to the Glossary of Phytosanitary Terms in ISPM No. 5:

• Incidence (of a pest): Proportion or number of units in which a pest is present in a sample, consignment, field or other defined population.

• Tolerance level (of a pest): Incidence of a pest specified as a threshold for action to control that pest or to prevent its spread or introduction.

• Phytosanitary security (of a consignment): Maintenance of the integrity of a consignment and prevention of its infestation and contamination by regulated pests, through the application of appropriate phytosanitary measures.

• Corrective action plan (in an area): Documented plan of phytosanitary actions to be implemented in an area officially delimited for phytosanitary purposes if a pest is detected or a specified pest level is exceeded or in the case of faulty implementation of officially established procedures.

B. The following terms and definitions have been revised in the Glossary:

• Compliance procedure (for a consignment): Official procedure used to verify that a consignment complies with phytosanitary import requirements or phytosanitary measures related to transit.

• Intended use: Declared purpose for which plants, plant products, or other articles are imported, produced, or used.

• Reference specimen: Specimen from a population of a specific organism conserved and accessible for the purpose of identification, verification, or comparison.

2. Draft Appendix to ISPM No. 5: Terminology of the Convention on Biological Diversity (CBD) in Relation to the Glossary of Phytosanitary Terms

Terms and definitions from the CBD are based on concepts different from those of the IPPC so similar terms are given distinctly different meanings. The CBD terms and definitions could not therefore be used directly in the IPPC Glossary. It was decided instead to present these terms and definitions in an Appendix to the Glossary, providing explanations of how they differ from IPPC terminology.

The following CBD terms have been adopted to the Appendix to the IPPC Glossary:

• Alien species

• Introduction

• Invasive alien species

• Establishment

• Intentional introduction

• Unintentional introduction

• Risk analysis

3. Revision of ISPM No. 15 (Regulation of Wood Packaging Material in International Trade)

ISPM No. 15 was adopted in 2002, and modifications to Annex 1 of ISPM No. 15 were adopted by CPM-1 in 2006. The Technical Panel on Forest Quarantine initiated the revision of the standard in 2006. Over 440 comments were received after country consultation. The Standards Committee adjusted the draft and recommended it for adoption by the CPM.

This standard describes phytosanitary measures that reduce the risk of introduction and spread of quarantine pests associated with the movement in international trade of wood packaging material made from raw wood. Wood packaging material covered by this standard includes dunnage but excludes wood packaging made from wood processed in such a way that it is free from pests (e.g., plywood).

4. ISPM No. 32 (Categorization of Commodities According to Their Pest Risk)

This new standard provides criteria for NPPOs of importing countries on categorizing commodities according to their pest risk when considering import requirements. This categorization should help in identifying whether further risk analysis is required or not. Contaminating pests or storage pests that may become associated with the commodity after processing are not considered in this standard.

IPPC Standards Up for Adoption in 2010

It is expected that the following standards will be sufficiently developed to be considered by the CPM for adoption at its 2010 meeting. The United States, represented by the Deputy Administrator for APHIS’ PPQ program, will participate in consideration of these standards. The U.S. position on each of these issues will be developed prior to the CPM session and will be based on APHIS’ analysis, information from other U.S. Government agencies, and relevant scientific information from interested stakeholders.

1. Pest-Free Potato (Solanum spp.) Micropropagative Material and Minitubers for International Trade

This standard will provide guidance on the production, maintenance, and phytosanitary certification of pest-free potato (Solanum tuberosum and related tuber-forming spp.) micropropagative material and minitubers intended for international trade. This standard does not apply to field-grown propagative material of potato or to potatoes intended for consumption or processing.

2. Annex to ISPM No. 26 (Establishment of Pest Free Areas for Fruit Flies (Tephritidae))

This Annex provides detailed information regarding trapping under different pest situations for different fruit fly species (Tephritidae) of economic importance. The information in this Annex can be used by NPPOs to aid them in developing fruit fly pest-free areas and fruit fly areas of low pest prevalence in line with guidance provided in other ISPMs. It describes the most widely used trapping systems including materials such as traps and attractants, trapping densities, surveying procedures, and procedures including evaluation, data recording, and analysis.

New Standard-Setting Initiatives, Including Those in Development

A number of expert working group meetings or other technical consultations will take place during 2009 and 2010 on the topics listed below. These standard-setting initiatives are under development and may be considered for future adoption. APHIS intends to participate actively and fully in each of these working groups. The U.S. position on each of the topics to be addressed by these various working groups will be developed prior to these working group meetings and will be based on APHIS’ technical analysis, information from other U.S. Government agencies, and relevant scientific information from interested stakeholders.

1. Revision of ISPM Nos. 7 (Export certification system) and 12 (Guidelines for phytosanitary certificates)

Existing ISPM Nos. 7 and 12 have been reviewed for amendment to provide specific guidance on their procedures, which cover technical, legal, administrative, and operational aspects, including export issues related to re-export and consignment in transit.

2. Design and operation of post-entry quarantine stations

This standard describes general guidelines for the design and operation of post-entry quarantine stations that hold in quarantine consignments of plants that may be infested with quarantine pests.

3. Amendment to ISPM No. 5 (Glossary of Phytosanitary Terms)

The Standards Committee, following recommendations by the Technical Panel for the Glossary, is proposing deletion of the term and definition of “beneficial organism” from ISPM No. 5. The current definition in the Glossary for the term “beneficial organism” is: “Any organism directly or indirectly advantageous to plants or plant products, including biological control agents (ISPM No. 3, 2005).”

4. Diagnostic Protocol on Thrips palmi (redraft)

This diagnostic protocol, if adopted, will be incorporated as an Annex to ISPM No. 27 (Diagnostic Protocols for Regulated Pests). This Annex provides taxonomic information on Thrips palmi to allow for morphological and molecular assay identifications of this pest in the laboratory.

5. Cold treatments for Fruit Flies

The following cold treatments (CT) for fruit flies, if adopted, will be annexed to ISPM No. 28 (Phytosanitary Treatments for Regulated Pests):

• CT of Citrus sinensis for Ceratitis capitata

• CT of Citrus reticulata x Citrus sinensis for Ceratitis capitata

• CT of Citrus sinensis for Bactrocera tryoni

• CT of Citrus reticulata x Citrus sinensis for Bactrocera tryoni

• CT of Citrus limon for Bactrocera tryoni

• CT of Citrus paradisi for Ceratitis capitata

• CT of Citrus reticulata cultivars and hybrids for Ceratitis capitata

• CT of Citrus limon for Ceratitis capitata

For more detailed information on the above topics, which will be addressed by various working groups established by the CPM, contact Ms. Julie E. Aliaga (see FOR FURTHER INFORMATION CONTACT above).

APHIS posts draft standards on the Internet (http://www.aphis.usda.gov/import_export/plants/plant_exports/phyto_international_standards.shtml) as they become available and provides information on the due dates for comments. Additional information on IPPC standards is available on the IPPC Web site at (http://www.ippc.int/IPP/En/default.htm). For the most current information on official U.S. participation in IPPC activities, including U.S. positions on standards being considered, contact Ms. Julie E. Aliaga (see FOR FURTHER INFORMATION CONTACT above). Those wishing to provide comments on any of the areas of work being undertaken by the IPPC may do so at any time by responding to this notice (see ADDRESSES above) or by providing comments through Ms. Aliaga.

NAPPO Standard-Setting Activities

NAPPO, a regional plant protection organization created in 1976 under the IPPC, coordinates the efforts among Canada, the United States, and Mexico to protect their plant resources from the entry, establishment, and spread of harmful plant pests, while facilitating intra- and inter-regional trade. NAPPO conducts its business through panels and annual meetings held among the three member countries. The NAPPO Executive Committee charges individual panels with the responsibility for drawing up proposals for NAPPO positions, policies, and standards. These panels are made up of representatives from each member country who have scientific expertise related to the policy or standard being considered. Proposals drawn up by the individual panels are circulated for review to Government and industry officials in Canada, the United States, and Mexico, who may suggest revisions. In the United States, draft standards are circulated to industry, States, and various government agencies for consideration and comment. The draft standards are posted on the Internet at (http://www.aphis.usda.gov/import_export/plants/plant_exports/phyto_international_standards.shtml). Once revisions are made, the proposal is sent to the NAPPO Working Group and the NAPPO Standards Panel for technical reviews, and then to the Executive Committee for final approval, which is granted by consensus.

The annual NAPPO meeting is scheduled for October 19-23, 2009, in Chicago, IL, USA. The NAPPO Executive Committee meeting will take place on October 19, 2009, and a session will be held on October 20, 2009, to solicit comments from industry groups so that suggestions can be incorporated into the NAPPO workplan for the 2010 NAPPO year. The Associate Deputy Administrator for PPQ is a member of the NAPPO Executive Committee. The Associate Deputy Administrator intends to participate in the proceedings and will discuss or comment on APHIS’ position on any standard up for adoption or any proposals to develop new standards.

The work plan for 2009 was established after the October 2008 Annual Meeting in Guadalajara, Mexico. The Associate Deputy Administrator for PPQ participated in establishing this NAPPO work plan (see panel assignments below). Below is a summary of current panel assignments as they relate to the ongoing development of NAPPO standards. The United States (i.e., USDA/APHIS) intends to participate actively and fully in the work of each of these panels. The U.S. position on each topic will be guided and informed by the best scientific information available on each of these topics. For each of the following panels, the United States will consider its position on any draft standard after it reviews a prepared draft. Information regarding the following NAPPO panel topics, assignments, activities, and updates on meeting times and locations may be obtained from the NAPPO homepage at (http://www.nappo.org) or by contacting Ms. Julie E. Aliaga (see FOR FURTHER INFORMATION CONTACT above).

1. Accreditation Panel

The panel revised RSPM No. 9 (The Accreditation of Laboratories for Phytosanitary Testing) and developed a regional phytosanitary standard on authorization to perform other phytosanitary procedures (e.g., inspection, testing, and treatments) entitled RSPM No. 28 (Guidelines for Authorization).

2. Biological Control Panel

The panel is developing an Annex to RSPM No. 26 to describe the certification process for non-Apis pollinators, including an approved list of non-Apis pollinators in NAPPO countries. It is preparing a discussion paper on the risk associated with the importation and movements of honeybee-collected pollen, risk assessment, management measures, and research needs.

3. Biotechnology Panel

The panel has organized a symposium for the 2009 NAPPO Annual Meeting event. The topic of the symposium is “Living Modified Organisms and Plant Health.” The panel is considering a proposal to determine whether it is appropriate to revise RSPM No. 14 (Importation and Release into the Environment of Transgenic Plants in NAPPO Member Countries) at this time, with particular focus on pest risk analysis of transgenic crops and the implications for importation of products with different intended uses.

4. Citrus Panel

The panel convened a NAPPO workshop on citrus quarantine pests, including citrus leprosis, citrus variegated chlorosis, and citrus greening (Huanglongbing), in July 2009, and invited the participation of regional and international experts to exchange the latest research and regulatory information. The panel has developed a diagnostic protocol for Huanglongbing.

5. Electronic Phytosanitary Certification Panel

The panel organized an international workshop to share information on e-certification initiatives in different countries and regions of the world. It continues the harmonization of systems development towards a functioning e-certification capability for use among NAPPO countries.

6. Forestry Panel

The panel has completed a NAPPO standard on preventing the entry of Asian gypsy moth into North America, RSPM No. 33 (Guidelines for Regulating the Movement of Ships and Cargo from Areas Infested with the Asian Gypsy Moth). It has drafted a discussion paper assessing the risk associated with imported wooden handicraft items and possible risk management measures. The panel reviewed the risk and risk management options for wood products imported into NAPPO countries and has drafted a standard on the import of Christmas trees.

7. Fruit Panel

This panel has reviewed RSPM No. 17 (Guidelines for the Establishment, Maintenance, and Verification of Fruit Fly Free Areas in North America). They have established a technical advisory group to the panel to develop a discussion paper that summarizes the distribution of Rhagoletis spp. in the NAPPO region, their potential for establishment, their host range, and other pertinent characteristics. The panel completed a new draft standard, Guidelines for the Development of Phytosanitary Treatment Protocols for Arthropod Pests of Fresh Fruits and Vegetables. This draft will be circulated by panel members for internal consideration by the NAPPO member countries. The final draft will be submitted for country consultation.

8. Fruit Tree and Grapevine Panel

This panel, created by the merger of two existing panels, has combined RSPM No. 25 (Guidelines for International Movement of Pome and Stone Fruit Trees into a NAPPO Member Country) and RSPM No. 15 (Guidelines for the Importation of Grapevines into a NAPPO Member Country) into one standard and is working on the Annexes to RSPM No. 25. The panel is developing a diagnostic protocol for the detection of plum pox virus by enzyme-linked immunosorbent assay and is developing a treatment protocol for methyl bromide fumigation of fruit trees to contain the oriental fruit moth. The panel continues to provide technical assistance to the National Clean Plant Network.

9. Grains Panel

The panel has finished reviewing RSPM No. 21 (Harmonized Procedure for Morphologically Distinguishing Teliospores of Karnal Bunt, Ryegrass Bunt and Rice Bunt) and continues to work on the review of RSPM No. 13 (Guidelines to Establish, Maintain and Verify Karnal Bunt Pest Free Areas in North America).

10. Invasive Species Panel

The panel’s technical advisory group continues to review comments on RSPM No. 31(Pathways Risk Analysis). It has completed a position paper describing NAPPO’s role in invasive alien species, including the documentation of relevant Federal legislative authority for the regulation of aquatic plants in North America. The panel completed a discussion paper on RSPM No. 32 (Pest Risk Assessment for Plants for Planting as Quarantine Pests).

11. Pest Risk Analysis Panel

This panel has developed a NAPPO Pest Risk Analysis template and supported the Forestry Panel in drafting RSPM No. 33. It has also assisted the Invasive Species Technical Advisory Group in completing RSPM No. 31.

12. Phytosanitary Alert System (PAS) Panel

The panel continues to post timely pest alerts on the NAPPO Web site and is refining the official pest reporting process and content. The panel conducted outreach, including the completion of a PAS brochure and a survey of PAS subscribers.

13. Plants for Planting

The panel continues to work on solutions for the implementation of RSPM No. 24 (Integrated Pest Risk Management Measures for the Importation of Plants for Planting in NAPPO Member Countries). It collaborated with the Accreditation Panel to finalize RSPM No. 28 (Guidelines for Authorization).

14. Potato Panel

This panel continues to revise RSPM No. 3 (Requirements for the Importation of Potatoes into a NAPPO Member Country), including the Annexes.

15. Seeds Panel

This newly reconstituted panel has developed a discussion paper addressing problems related to the re-export of seeds and has developed procedures to facilitate their re-export in the Americas, in collaboration with the North American seed industry, the Seed Association of the Americas, and Comité de Sanidad Vegetal del Cono Sur.

16. Standards Panel

The panel coordinated the review of new and amended NAPPO standards and implementation plans; exchanged and discussed comments on draft ISPMs within NAPPO and with other RPPOs to build consensus on draft ISPMs and other IPPC-related issues, as appropriate; reviewed draft RSPMs prepared by panels and made recommendations on their suitability for adoption by the Executive Committee; and reviewed NAPPO position papers and policy documents to verify current relevance.

The PPQ Associate Deputy Administrator, as the official U.S. delegate to NAPPO, intends to participate in the adoption of these regional plant health standards, including the work described above, once they are completed and ready for such consideration.

The information in this notice contains all the information available to us on NAPPO standards currently under development or consideration. For updates on meeting times and for information on the working panels that may become available following publication of this notice, go to the NAPPO Web site on the Internet at (http://www.nappo.org) or contact Ms. Julie Aliaga (see FOR FURTHER INFORMATION CONTACT above). Information on official U.S. participation in NAPPO activities, including U.S. positions on standards being considered, may also be obtained from Ms. Aliaga. Those wishing to provide comments on any of the topics being addressed by any of the NAPPO panels may do so at any time by responding to this notice (see ADDRESSES above) or by transmitting comments through Ms. Aliaga.

Done in Washington, DC, this 18th day of November 2009.
Kevin Shea,
Acting Administrator, Animal and Plant Health Inspection Service.

[FR Doc. E9-28143 Filed 11-23-09: 8:17 am]

BILLING CODE 3410-34-S